DEPARTMENT OF THE TREASURY

31 CFR Part 1

U. S. Secret Service; Privacy Act of 1974; Implementation

AGENCY: Office of the Secretary, Treasury.

ACTION: Final Rule.

SUMMARY: The Department is amending its regulations concerning the Privacy Act of 1974, Title 5 of the United States Code, Section 552a (Privacy Act) by revising the United States Secret Services Appendix D of this subpart to identify a new official responsible for administrative appeals of initial determinations refusing amendment of records made pursuant to the Privacy Act. The Department is also updating the address of the Secret Service Headquarters listed in the Appendix.

EFFECTIVE DATE: February 13, 2001.

FOR FURTHER INFORMATION CONTACT: Donna Cahill, Associate Chief Counsel, United States Secret Service, 950 H Street, NW., Suite 8300, Washington, DC 20373-5802.

SUPPLEMENTARY INFORMATION: The Secret Service is updating its current Privacy Act regulation Appendix D. The Secret Service moved its headquarters to a new location, consequently the addresses shown in the Appendix are no longer current and need to be updated to provide the proper address to the public.

The Secret Service also recognizes a need to revise paragraph 4 of Appendix D, which identifies the official responsible for reviewing administrative appeals of initial determinations refusing amendment of records. Existing regulations name the “Assistant Secretary of the Treasury for Enforcement” as the reviewing official. However, to be consistent with the language implementing the Freedom of Information Act (FOIA), 31 CFR part 1, subpart A, appendix D.4, published at 65 FR 40514 on June 30, 2000, the Secret Service has determined that the reviewing official should be changed to the “Deputy Director, United States Secret Service.” The address to which an appeal should be made by mail or delivered personally is also being changed to: “Privacy Act Amendment Appeal, Deputy Director, United States Secret Service, 950 H Street, NW., Suite 8300, Washington, DC 20373-5802.”

These regulations are being published as a final rule because the amendment does not impose any requirements on any member of the public. This amendment is the most efficient means for the Treasury Department to implement its internal requirements for complying with the Privacy Act. Accordingly, pursuant to the administrative procedure provisions in 5 U.S.C. 553, the Department of the Treasury finds good cause that prior notice and other public procedure with respect to this rule are impracticable and unnecessary and finds good cause for making this rule effective on the date of publication in the Federal Register.

In accordance with Executive Order 12866, it has been determined that this final rule is not a “significant regulatory action” and, therefore, does not require a Regulatory Impact Analysis.

Because no notice of proposed rulemaking is required, the provisions of the Regulatory Flexibility Act (5 U.S.C. 601 et seq.) do not apply.

List of Subjects in 31 CFR Part 1

Privacy.

PART 1—[AMENDED]

Subpart C—Privacy Act

Part 1 of title 31 of the Code of Federal Regulations is amended as follows:

1. The authority citation for part 1 continues to read as follows:

Authority: 5 U.S.C. 301 and 31 U.S.C. 321. Subpart C also issued under 5 U.S.C. 552a.

2. Amend 31 CFR part 1, subpart C, appendix D—UNITED STATES SECRET SERVICE, paragraph 2, by removing “Room 720, 1800 G Street NW., Washington, DC 20223,” and adding in its place, “Suite 3000, 950 H Street, NW., Washington, DC 20373-5802.”

3. Amend 31 CFR part 1, subpart C, appendix D—UNITED STATES SECRET SERVICE, paragraph 3, by removing “Room 720, 1800 G Street NW., Washington, DC 20223,” and adding in its place, “Suite 3000, 950 H Street, NW., Washington, DC 20373-5802.”

4. Amend 31 CFR part 1, subpart C, appendix D—UNITED STATES SECRET SERVICE by revising paragraph 4 to read as follows:

* * * * *

(4) Administrative appeal of initial determinations refusing amendment of records. Appellate determinations, including extensions of time on appeal, with respect to records of the United States Secret Service will be made by the Deputy Director, United States Secret Service. Appeals may be mailed or delivered personally to: Privacy Act Amendment Appeal, Deputy Director, United States Secret Service, 950 H Street, NW., Suite 8300, Washington, DC 20373-5802.

* * * * *

5. Amend 31 CFR part 1, subpart C, appendix D—UNITED STATES SECRET SERVICE, paragraph 6, by removing “Room 843, 1800 G Street NW., Washington, DC 20223,” and adding in its place, “Suite 8300, 950 H Street, NW., Washington, DC 20373-5802.”

Date: February 6, 2001.
W. Earl Wright, Jr.,
Chief Management and Administrative Programs Officer.

[FR Doc. 01-3634 Filed 2-12-01; 8:45 am]

BILLING CODE 4810-42-P